DEPARTMENT OF THE INTERIOR

Bureau of Land Management

[212.LLIDB00000.L12200000.DA0000]

Notice of Closure on Public Lands in Boise County, Idaho

AGENCY: Bureau of Land Management, Interior.

ACTION: Notice of closure.

SUMMARY: Notice is hereby given that the Skinny Dipper Hot Springs, located on public lands administered by the Four Rivers Field Office, Bureau of Land Management (BLM), is closed to all uses.

DATES: The Skinny Dipper Hot Springs closure will be in effect for five years from 12:01 a.m., February 14, 2022, or until rescinded or modified by the authorized officer or designated Federal officer, whichever is earlier.

FOR FURTHER INFORMATION CONTACT: Brent Ralston, Four Rivers Field Manager, 3948 Development Avenue, Boise, Idaho 83705, email bralston@blm.gov, or phone (208) 384-3300. Persons who use a telecommunications device for the deaf (TDD) may call the Federal Relay Service (FRS) at (800) 877-8339 to contact Mr. Ralston. The FRS is available 24 hours a day, seven days a week, to leave a message or question with Mr. Ralston. You will receive a reply during normal hours.

SUPPLEMENTARY INFORMATION: The closure affects public lands including and surrounding Skinny Dipper Hot Springs, located approximately 4 miles east of Banks, Idaho. The affected public lands are: All public land north of Idaho State Highway 17, also known as the Banks-Lowman Highway, in Lot 3; Section 25, T. 9 N., R. 3 E., Boise Meridian, Boise County, Idaho, containing approximately 41.58 acres.

The closure is necessary to allow the BLM to provide for public health and safety and continue to rehabilitate and restore natural conditions damaged by unauthorized use and development around the hot springs.

The BLM will post closure signs at main access points to the closed area and the area used for parking located adjacent to the highway. This closure order will be posted in the Boise District BLM office. Maps of the affected area and other documents associated with this closure are available at Four Rivers Field Office, 3948 Development Avenue, Boise, Idaho 83705 and online at https://go.usa.gov/x6MgS.

Exemptions: The following persons are exempt from this order: Federal, State, and local officers and employees in the performance of their official duties; members of organized rescue or fire-fighting forces in the performance of their official duties; and persons with written authorization from the BLM's Four Rivers Field Office.

Enforcement: Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of Idaho law.

Authority: 43 CFR 8364.1.

Tanya M. Thrift,
Boise District Manager (Acting).

[FR Doc. 2022-00403 Filed 1-13-22; 8:45 am]

BILLING CODE 4331-11-P